FEDERAL TRADE COMMISSION

Senior Executive Service Performance Review Board

AGENCY: Federal Trade Commission (FTC).

ACTION: Notice.

SUMMARY: Notice is hereby given of the appointment of members to the FTC Performance Review Board.

FOR FURTHER INFORMATION CONTACT: Tamika Williams, Acting Chief Human Capital Officer, 600 Pennsylvania Avenue NW, Washington, DC 20580, (202) 326-2184.

SUPPLEMENTARY INFORMATION: Publication of the Performance Review Board (PRB) membership is required by 5 U.S.C. 4314(c)(4). The PRB reviews and evaluates the initial appraisal of a senior executive's performance by the supervisor, and makes recommendations regarding performance ratings, performance awards, and pay-for-performance pay adjustments to the Chair.

The following individuals have been designated to serve on the Commission's Performance Review Board:

Monique Fortenberry, Director, Office of Workplace Inclusivity & Opportunity

Robin Moore, Principal Deputy General Counsel

Maribeth Petrizzi, Assistant Director for Compliance, Bureau of Competition

David Robbins, Executive Director, PRB Chair

Ted Rosenbaum, Deputy Director for Research and Management, Bureau of Economics

Rebecca Unruh, Deputy Director, Bureau of Consumer Protection

Tamika Williams, Acting Chief Human Capital Officer

By direction of the Commission.
April J. Tabor,
Secretary.

[FR Doc. 2024-24904 Filed 10-24-24; 8:45 am]

BILLING CODE 6750-01-P